DEPARTMENT OF DEFENSE

Defense Intelligence Agency

[DOD-2006-OS-0119]

Privacy Act of 1974; Systems of Records

AGENCY: Defense Intelligence Agency, DoD.

ACTION: Notice to amend a system of records.

SUMMARY: The Defense Intelligence Agency is amending a system of records notice to its existing inventory of record systems subject to the Privacy Act of 1974 (5 U.S.C. 552a), as amended.

DATES: This proposed action will be effective without further notice on July 5, 2006 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency notices for systems of records subject to the Privacy Act of 1974 (5 U.S.C. 552a), as amended, have been published at the Federal Register and are available from the address above.

The specific changes to the record system being amended as set forth below followed by the notice, as amended, published in its entirety. The proposed amendment is not within the purview of subsection (r) of the Privacy Act of 1974, (5 U.S.C. 552a), as amended, which requires the submission of a new or altered system report.

Dated: May 26, 2006.
C.R. Choate,
Alternate OSD Federal Register Liaison Officer, Department of Defense.

LDIA 0011

System Name:

Student Information Files (February 22, 1993, 58 FR 10613).

Changes:

* * * * *

System Location:

Delete “0001” and replace with: “5100”.

* * * * *

Storage:

Delete entry and replace with: “Automated storage on server backed up daily, and manual in paper files.”

* * * * *

Safeguards:

Delete entry and replace with: “Records are maintained in a building protected by security guards and are stored in vaults, safes or locked cabinets and are accessible only to authorized personnel who are property screened, cleared and trained in the protection of privacy information. Electronic records are maintained on a classified and password protected system.”

* * * * *

System Manager(s) and Address:

Delete entry and replace with “President, Joint Military Intelligence College, ATTN: MC, Washington, DC 20340-5100.”

Notification Procedures:

Delete entry and replace with: “Individuals seeking to determine whether information about themselves is contained in this system of records should address written inquiries to the Freedom of Information Act Office (DAN-1A/FOIA), Defense Intelligence Agency, 200 MacDill Blvd., Washington, DC 20340-5100.

Individual should provide their full name, current address, telephone number and Social Security Number.”

Record Access Procedures:

Delete entry and replace with: “Individuals seeking access to information about themselves contained in this system should address written inquiries to the Freedom of Information Act Office—(DAN-1A/FOIA), Defense Intelligence Agency, 200 MacDill Blvd., Washington, DC 20340-5100.

Individual should provide their full name, current address, telephone number and Social Security Number.”

Contesting Record Procedures:

Delete entry and replace with: “DIA's rules for accessing records, for contesting contents and appealing initial agency determinations are published in DIA Regulation 12-12 ‘Defense Intelligence Agency Private Program’; 32 CFR part 319—Defense Intelligence Agency Privacy Program; or may be obtained from the system manager.”

* * * * *

LDIA 0011

System name:

Student Information Files.

System location:

Defense Intelligence Agency, Washington, DC 20340-5100.

Categories of individuals covered by the system:

Current and former students of the Defense Intelligence College.

Categories of records in the system:

Student's biographic data and administrative/academic documents related to the student's enrollment.

Authority for maintenance of the system:

Pursuant to the authority contained in the National Security Act of 1947, as amended, the Secretary of Defense issued Department of Defense Directive 5105.21 which created the Defense Intelligence Agency as a separate agency of the Department of Defense and charged the Agency's Director with the responsibility for the maintenance of necessary and appropriate records.

Purpose(s):

Information pertaining to personnel, past, present and projected assignments, educational background, academic/fitness reports, letters of course completion, rosters, grades and academic transcripts. This information is collected to provide data for managing the student population at the Defense College and for historical documentation.

Information is used to document, monitor, manage, and administer the student's performance at the College.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” set forth at the beginning of the DIA's compilation of systems of records notices apply to this system.

Policies and practices for storing, retrieving, accessing, retaining, and disposing of records in the system:

Storage:

Automated storage on server backed up daily, and manual in paper files.

Retrievability:

Alphabetically by surname of individual.

Safeguards:

Records are maintained in a building protected by security guards and are stored in vaults, safes or locked cabinets and are accessible only to authorized personnel who are properly screened, cleared and trained in the protection of privacy information. Electronic records are maintained on a classified and password protected system.

Retention and disposal:

Registration cards are held 2 years and then retired to the Washington National Records Center. They are destroyed when 25 years old.

System manager(s) and address:

President, Joint Military Intelligence College, ATTN: MC, Washington, DC 20340-5100.

Notification procedure:

Individuals seeking to determine whether information about themselves is contained in this system of records should address written inquiries to the Freedom of Information Act Office (DAN-1A/FOIA), Defense Intelligence Agency, 200 MacDill Blvd., Washington, DC 20340-5100.

Individual should provide their full name, current address, telephone number and Social Security Number.”

Record access procedures:

Individuals seeking access to information about themselves contained in this system should address written inquiries to the Freedom of Information Act Office—(DAN-1A/FOIA), Defense Intelligence Agency, 200 MacDill Blvd., Washington, DC 20340-5100.

Individual should provide their full name, current address, telephone number and Social Security Number.

Contesting record procedures:

DIA's rules for accessing records, for contesting contents and appealing initial agency determinations are published in DIA Regulation 12-12 “Defense Intelligence Agency Privacy Program”; or may be obtained from the system manager.

Record source categories:

Individual, parent service, educational institutions, previous employees and other Federal agencies.

Exemptions claimed for the system:

None.

[FR Doc. 06-5094 Filed 6-2-06; 8:45 am]

BILLING CODE 9001-06-M